COMMITTEE FOR PURCHASE FROM PEOPLE WHO ARE BLIND OR SEVERELY DISABLED

Procurement List; Proposed Addition and Deletion

AGENCY: Committee for Purchase From People Who Are Blind or Severely Disabled.

ACTION: Proposed Addition to and Deletion from the Procurement List.

SUMMARY: The Committee is proposing to add a service to the Procurement List that will be provided by a nonprofit agency employing persons who are blind or have other severe disabilities and, deletes a product previously furnished by such agency.

DATES: Comments Must Be Received On or Before: April 22, 2013.

ADDRESSES: Committee for Purchase From People Who Are Blind or Severely Disabled, 1401 S. Clarke Street, Suite 10800, Arlington, Virginia 22202.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

The following service is proposed for addition to the Procurement List for production by the nonprofit agency listed:

Service

Service Type/Location: Operations Support Service, Defense Health Headquarters, 7700 Arlington Blvd., Falls Church, VA.

NPA: Linden Resources, Inc., Arlington, VA

Contracting Activity: Washington Headquarters Services (WHS), Acquisition Directorate, Washington, DC

Deletion

The following product is proposed for deletion from the Procurement List:

Product

Shape, Day Maritime

NSN: 8345-01-101-1101,

NPA: None assigned.

Contracting Activity: Defense Logistics Agency Troop Support, Philadelphia, PA

Barry S. Lineback,
Director, Business Operations.

[FR Doc. 2013-06605 Filed 3-21-13; 8:45 am]

BILLING CODE 6353-01-P